DEPARTMENT OF HEALTH AND HUMAN SERVICES

National Institutes of Health

National Heart, Lung, and Blood Institute; Amended Notice of Meeting

Notice is hereby given of a change in the meeting of the Sleep Disorders Research Advisory Board, December 01, 2022, 12 p.m. to December 01, 2022, 4 p.m., National Institutes of Health, Rockledge II, 6701 Rockledge Drive, Bethesda, MD, 20892 which was published in the Federal Register on November 01, 2022, 87 FR 65786.

Meeting is being amended to change the meeting time from 12 p.m. to 4 p.m. to 12 p.m. to 5 p.m. Also to change the agenda from, “The purpose of this meeting is to update the Advisory Board and public stakeholders on the research agenda across NIH for the upcoming fiscal year, and the activities of professional societies.” to “The purpose of this meeting is to discuss with the Advisory Board timely research opportunities in sleep and circadian biology. Updates on the research agenda across the NIH for the upcoming fiscal year and the activities of professional societies will be provided to all stakeholders.” The meeting is open to the public.

Dated: November 2, 2022.
David W. Freeman,
Program Analyst, Office of Federal Advisory Committee Policy.

[FR Doc. 2022-24203 Filed 11-4-22; 8:45 am]

BILLING CODE 4140-01-P